POSTAL REGULATORY COMMISSION

[Docket Nos. K2025-814; MC2025-770 and K2025-769; MC2025-793 and K2025-792; MC2025-794 and K2025-793; MC2025-795 and K2025-794; MC2025-796 and K2025-795; MC2025-797 and K2025-796; MC2025-798 and K2025-797; MC2025-799 and K2025-798; MC2025-800 and K2025-799; MC2025-801 and K2025-800; MC2025-802 and K2025-801; MC2025-803 and K2025-802; MC2025-804 and K2025-803; MC2025-805 and K2025-804; MC2025-806 and K2025-805; MC2025-807 and K2025-806; MC2025-808 and K2025-807; MC2025-809 and K2025-808; MC2025-810 and K2025-809; MC2025-811 and K2025-810; MC2025-812 and K2025-811; MC2025-813 and K2025-812; MC2025-814 and K2025-813; MC2025-815 and K2025-815; MC2025-816 and K2025-816; MC2025-817 and K2025-817]

New Postal Products

AGENCY: Postal Regulatory Commission.

ACTION: Notice.

SUMMARY: The Commission is noticing a recent Postal Service filing for the Commission's consideration concerning a negotiated service agreement. This notice informs the public of the filing, invites public comment, and takes other administrative steps.

DATES: Comments are due: December 20, 2024.

ADDRESSES: Submit comments electronically via the Commission's Filing Online system at https://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Public Proceeding(s)

III. Summary Proceeding(s)

I. Introduction

Pursuant to 39 CFR 3041.405, the Commission gives notice that the Postal Service filed request(s) for the Commission to consider matters related to Competitive negotiated service agreement(s). The request(s) may propose the addition of a negotiated service agreement from the Competitive product list or the modification of an existing product currently appearing on the Competitive product list.

The public portions of the Postal Service's request(s) can be accessed via the Commission's website (https://www.prc.gov). Non-public portions of the Postal Service's request(s), if any, can be accessed through compliance with the requirements of 39 CFR 3011.301.¹

¹ See Docket No. RM2018-3, Order Adopting Final Rules Relating to Non-Public Information, June 27, 2018, Attachment A at 19-22 (Order No. 4679).

Section II identifies the docket number(s) associated with each Postal Service request, if any, that will be reviewed in a public proceeding as defined by 39 CFR 3010.101(p), the title of each such request, the request's acceptance date, and the authority cited by the Postal Service for each request. For each such request, the Commission appoints an officer of the Commission to represent the interests of the general public in the proceeding, pursuant to 39 U.S.C. 505 and 39 CFR 3000.114 (Public Representative). Section II also establishes comment deadline(s) pertaining to each such request.

The Commission invites comments on whether the Postal Service's request(s) identified in Section II, if any, are consistent with the policies of title 39. Applicable statutory and regulatory requirements include 39 U.S.C. 3632, 39 U.S.C. 3633, 39 U.S.C. 3642, 39 CFR part 3035, and 39 CFR part 3041. Comment deadline(s) for each such request, if any, appear in Section II.

Section III identifies the docket number(s) associated with each Postal Service request, if any, to add a standardized distinct product to the Competitive product list or to amend a standardized distinct product, the title of each such request, the request's acceptance date, and the authority cited by the Postal Service for each request. Standardized distinct products are negotiated service agreements that are variations of one or more Competitive products, and for which financial models, minimum rates, and classification criteria have undergone advance Commission review. See 39 CFR 3041.110(n); 39 CFR 3041.205(a). Such requests are reviewed in summary proceedings pursuant to 39 CFR 3041.325(c)(2) and 39 CFR 3041.505(f)(1). Pursuant to 39 CFR 3041.405(c)-(d), the Commission does not appoint a Public Representative or request public comment in proceedings to review such requests.

II. Public Proceeding(s)

1. Docket No(s).: K2025-814; Filing Title: Request of the United States Postal Service Concerning Functionally Equivalent Inbound Competitive Mult-Service Agreement with Foreign Postal Operator—FY25-2; Filing Acceptance Date: December 12, 2024; Filing Authority: 39 CFR 3041.315; Public Representative: Katalin Clendenin; Comments Due: December 20, 2024.

2. Docket No(s).: MC2025-770 and K2025-769; Filing Title: USPS Request to Add Priority Mail Express International, Priority Mail International & First-Class Package International Service Contract 53 to Competitive Product List and Notice of Filing Materials Under Seal; Filing Acceptance Date: December 12, 2024; Filing Authority: 39 U.S.C. 3642, 39 CFR 3035.105, and 39 CFR 3041.310; Public Representative: Katalin Clendenin; Comments Due: December 20, 2024.

3. Docket No(s).: MC2025-793 and K2025-792; Filing Title: USPS Request to Add Priority Mail Express, Priority Mail & USPS Ground Advantage Contract 1036 to the Competitive Product List and Notice of Filing Materials Under Seal; Filing Acceptance Date: December 12, 2024; Filing Authority: 39 U.S.C. 3642, 39 CFR 3035.105, and 39 CFR 3041.310; Public Representative: Samuel Robinson; Comments Due: December 20, 2024.

4. Docket No(s).: MC2025-794 and K2025-793; Filing Title: USPS Request to Add Priority Mail Express, Priority Mail & USPS Ground Advantage Contract 1034 to the Competitive Product List and Notice of Filing Materials Under Seal; Filing Acceptance Date: December 12, 2024; Filing Authority: 39 U.S.C. 3642, 39 CFR 3035.105, and 39 CFR 3041.310; Public Representative: Arif Hafiz; Comments Due: December 20, 2024.

5. Docket No(s).: MC2025-795 and K2025-794; Filing Title: USPS Request to Add Priority Mail Express, Priority Mail & USPS Ground Advantage Contract 1038 to the Competitive Product List and Notice of Filing Materials Under Seal; Filing Acceptance Date: December 12, 2024; Filing Authority: 39 U.S.C. 3642, 39 CFR 3035.105, and 39 CFR 3041.310; Public Representative: Arif Hafiz; Comments Due: December 20, 2024.

6. Docket No(s).: MC2025-796 and K2025-795; Filing Title: USPS Request to Add Priority Mail Express, Priority Mail & USPS Ground Advantage Contract 1039 to the Competitive Product List and Notice of Filing Materials Under Seal; Filing Acceptance Date: December 12, 2024; Filing Authority: 39 U.S.C. 3642, 39 CFR 3035.105, and 39 CFR 3041.310; Public Representative: Arif Hafiz; Comments Due: December 20, 2024.

7. Docket No(s).: MC2025-797 and K2025-796; Filing Title: USPS Request to Add Priority Mail Express, Priority Mail & USPS Ground Advantage Contract 1040 to the Competitive Product List and Notice of Filing Materials Under Seal; Filing Acceptance Date: December 12, 2024; Filing Authority: 39 U.S.C. 3642, 39 CFR 3035.105, and 39 CFR 3041.310; Public Representative: Arif Hafiz; Comments Due: December 20, 2024.

8. Docket No(s).: MC2025-798 and K2025-797; Filing Title: USPS Request to Add Priority Mail Express, Priority Mail & USPS Ground Advantage Contract 1041 to the Competitive Product List and Notice of Filing Materials Under Seal; Filing Acceptance Date: December 12, 2024; Filing Authority: 39 U.S.C. 3642, 39 CFR 3035.105, and 39 CFR 3041.310; Public Representative: Katalin Clendenin; Comments Due: December 20, 2024.

9. Docket No(s).: MC2025-799 and K2025-798; Filing Title: USPS Request to Add Priority Mail Express, Priority Mail & USPS Ground Advantage Contract 1042 to the Competitive Product List and Notice of Filing Materials Under Seal; Filing Acceptance Date: December 12, 2024; Filing Authority: 39 U.S.C. 3642, 39 CFR 3035.105, and 39 CFR 3041.310; Public Representative: Katalin Clendenin; Comments Due: December 20, 2024.

10. Docket No(s).: MC2025-800 and K2025-799; Filing Title: USPS Request to Add Priority Mail Express, Priority Mail & USPS Ground Advantage Contract 1043 to the Competitive Product List and Notice of Filing Materials Under Seal; Filing Acceptance Date: December 12, 2024; Filing Authority: 39 U.S.C. 3642, 39 CFR 3035.105, and 39 CFR 3041.310; Public Representative: Katalin Clendenin; Comments Due: December 20, 2024.

11. Docket No(s).: MC2025-801 and K2025-800; Filing Title: USPS Request to Add Priority Mail Express, Priority Mail & USPS Ground Advantage Contract 1044 to the Competitive Product List and Notice of Filing Materials Under Seal; Filing Acceptance Date: December 12, 2024; Filing Authority: 39 U.S.C. 3642, 39 CFR 3035.105, and 39 CFR 3041.310; Public Representative: Katalin Clendenin; Comments Due: December 20, 2024.

12. Docket No(s).: MC2025-802 and K2025-801; Filing Title: USPS Request to Add Priority Mail Express, Priority Mail & USPS Ground Advantage Contract 1045 to the Competitive Product List and Notice of Filing Materials Under Seal; Filing Acceptance Date: December 12, 2024; Filing Authority: 39 U.S.C. 3642, 39 CFR 3035.105, and 39 CFR 3041.310; Public Representative: Maxine Bradley; Comments Due: December 20, 2024.

13. Docket No(s).: MC2025-803 and K2025-802; Filing Title: USPS Request to Add Priority Mail Express, Priority Mail & USPS Ground Advantage Contract 1046 to the Competitive Product List and Notice of Filing Materials Under Seal; Filing Acceptance Date: December 12, 2024; Filing Authority: 39 U.S.C. 3642, 39 CFR 3035.105, and 39 CFR 3041.310; Public Representative: Maxine Bradley; Comments Due: December 20, 2024.

14. Docket No(s).: MC2025-804 and K2025-803; Filing Title: USPS Request to Add Priority Mail Express, Priority Mail & USPS Ground Advantage Contract 1047 to the Competitive Product List and Notice of Filing Materials Under Seal; Filing Acceptance Date: December 12, 2024; Filing Authority: 39 U.S.C. 3642, 39 CFR 3035.105, and 39 CFR 3041.310; Public Representative: Maxine Bradley; Comments Due: December 20, 2024.

15. Docket No(s).: MC2025-805 and K2025-804; Filing Title: USPS Request to Add Priority Mail Express, Priority Mail & USPS Ground Advantage Contract 1048 to the Competitive Product List and Notice of Filing Materials Under Seal; Filing Acceptance Date: December 12, 2024; Filing Authority: 39 U.S.C. 3642, 39 CFR 3035.105, and 39 CFR 3041.310; Public Representative: Maxine Bradley; Comments Due: December 20, 2024.

16. Docket No(s).: MC2025-806 and K2025-805; Filing Title: USPS Request to Add Priority Mail Express, Priority Mail & USPS Ground Advantage Contract 1049 to the Competitive Product List and Notice of Filing Materials Under Seal; Filing Acceptance Date: December 12, 2024; Filing Authority: 39 U.S.C. 3642, 39 CFR 3035.105, and 39 CFR 3041.310; Public Representative: Christopher Mohr; Comments Due: December 20, 2024.

17. Docket No(s).: MC2025-807 and K2025-806; Filing Title: USPS Request to Add Priority Mail Express, Priority Mail & USPS Ground Advantage Contract 1050 to the Competitive Product List and Notice of Filing Materials Under Seal; Filing Acceptance Date: December 12, 2024; Filing Authority: 39 U.S.C. 3642, 39 CFR 3035.105, and 39 CFR 3041.310; Public Representative: Christopher Mohr; Comments Due: December 20, 2024.

18. Docket No(s).: MC2025-808 and K2025-807; Filing Title: USPS Request to Add Priority Mail Express, Priority Mail & USPS Ground Advantage Contract 1051 to the Competitive Product List and Notice of Filing Materials Under Seal; Filing Acceptance Date: December 12, 2024; Filing Authority: 39 U.S.C. 3642, 39 CFR 3035.105, and 39 CFR 3041.310; Public Representative: Christopher Mohr; Comments Due: December 20, 2024.

19. Docket No(s).: MC2025-809 and K2025-808; Filing Title: USPS Request to Add Priority Mail Express, Priority Mail & USPS Ground Advantage Contract 1052 to the Competitive Product List and Notice of Filing Materials Under Seal; Filing Acceptance Date: December 12, 2024; Filing Authority: 39 U.S.C. 3642, 39 CFR 3035.105, and 39 CFR 3041.310; Public Representative: Christopher Mohr; Comments Due: December 20, 2024.

20. Docket No(s).: MC2025-810 and K2025-809; Filing Title: USPS Request to Add Priority Mail Express, Priority Mail & USPS Ground Advantage Contract 1053 to the Competitive Product List and Notice of Filing Materials Under Seal; Filing Acceptance Date: December 12, 2024; Filing Authority: 39 U.S.C. 3642, 39 CFR 3035.105, and 39 CFR 3041.310; Public Representative: Almaroof Agoro; Comments Due: December 20, 2024.

21. Docket No(s).: MC2025-811 and K2025-810; Filing Title: USPS Request to Add Priority Mail Express, Priority Mail & USPS Ground Advantage Contract 1054 to the Competitive Product List and Notice of Filing Materials Under Seal; Filing Acceptance Date: December 12, 2024; Filing Authority: 39 U.S.C. 3642, 39 CFR 3035.105, and 39 CFR 3041.310; Public Representative: Almaroof Agoro; Comments Due: December 20, 2024.

22. Docket No(s).: MC2025-812 and K2025-811; Filing Title: USPS Request to Add Priority Mail Express, Priority Mail & USPS Ground Advantage Contract 1055 to the Competitive Product List and Notice of Filing Materials Under Seal; Filing Acceptance Date: December 12, 2024; Filing Authority: 39 U.S.C. 3642, 39 CFR 3035.105, and 39 CFR 3041.310; Public Representative: Almaroof Agoro; Comments Due: December 20, 2024.

23. Docket No(s).: MC2025-813 and K2025-812; Filing Title: USPS Request to Add Priority Mail Express, Priority Mail & USPS Ground Advantage Contract 1056 to the Competitive Product List and Notice of Filing Materials Under Seal; Filing Acceptance Date: December 12, 2024; Filing Authority: 39 U.S.C. 3642, 39 CFR 3035.105, and 39 CFR 3041.310; Public Representative: Almaroof Agoro; Comments Due: December 20, 2024.

24. Docket No(s).: MC2025-814 and K2025-813; Filing Title: USPS Request to Add Priority Mail Express, Priority Mail & USPS Ground Advantage Contract 1057 to the Competitive Product List and Notice of Filing Materials Under Seal; Filing Acceptance Date: December 12, 2024; Filing Authority: 39 U.S.C. 3642, 39 CFR 3035.105, and 39 CFR 3041.310; Public Representative: Gregory Stanton; Comments Due: December 20, 2024.

25. Docket No(s).: MC2025-815 and K2025-815; Filing Title: USPS Request to Add Priority Mail & USPS Ground Advantage Contract 533 to the Competitive Product List and Notice of Filing Materials Under Seal; Filing Acceptance Date: December 12, 2024; Filing Authority: 39 U.S.C. 3642, 39 CFR 3035.105, and 39 CFR 3041.310; Public Representative: Gregory Stanton; Comments Due: December 20, 2024.

26. Docket No(s).: MC2025-816 and K2025-816; Filing Title: USPS Request to Add Priority Mail Express, Priority Mail & USPS Ground Advantage Contract 1058 to the Competitive Product List and Notice of Filing Materials Under Seal; Filing Acceptance Date: December 12, 2024; Filing Authority: 39 U.S.C. 3642, 39 CFR 3035.105, and 39 CFR 3041.310; Public Representative: Gregory Stanton; Comments Due: December 20, 2024.

27. Docket No(s).: MC2025-817 and K2025-817; Filing Title: USPS Request to Add Priority Mail Express, Priority Mail & USPS Ground Advantage Contract 1059 to the Competitive Product List and Notice of Filing Materials Under Seal; Filing Acceptance Date: December 12, 2024; Filing Authority: 39 U.S.C. 3642, 39 CFR 3035.105, and 39 CFR 3041.310; Public Representative: Gregory Stanton; Comments Due: December 20, 2024.

III. Summary Proceeding(s)

None. See Section II for public proceedings.

This Notice will be published in the Federal Register.

Erica A. Barker,
Secretary.

[FR Doc. 2024-30053 Filed 12-17-24; 8:45 am]

BILLING CODE 7710-FW-P